DEPARTMENT OF ENERGY

Federal Energy Regulatory Commission

[Docket Nos. CP14-554-000; CP15-16-000; CP15-17-000]

Florida Southeast Connection, LLC; Transcontinental Gas Pipe Line Company, LLC; Sabal Trail Transmission, LLC; Notice of Availability of the Final Environmental Impact Statement for the Proposed Southeast Market Pipelines Project

The staff of the Federal Energy Regulatory Commission (FERC or Commission) has prepared a final environmental impact statement (EIS) for the Hillabee Expansion, Sabal Trail, and Florida Southeast Connection (FSC) Projects as proposed by Transcontinental Gas Pipe Line Company, LLC (Transco), Sabal Trail Transmission, LLC (Sabal Trail), and Florida Southeast Connection, LLC (FSC), respectively, in the above-referenced dockets. These are separate, but connected, natural gas transmission pipeline projects collectively referred to as the Southeast Market Pipelines (SMP) Project. The applicants request authorization to construct and operate a total of about 686.0 miles of natural gas transmission pipeline and associated facilities, six new natural gas-fired compressor stations, and modify existing compressor stations in Alabama, Georgia, and Florida. The SMP Project would provide about 1.1 billion cubic feet per day of natural gas to meet growing demands by the electric generation, distribution, and end use markets in Florida and the southeast United States.

The final EIS assesses the potential environmental effects of the construction and operation of the SMP Project in accordance with the requirements of the National Environmental Policy Act (NEPA). The FERC staff concludes that approval of the SMP Project would have some adverse environmental impacts; however, these impacts would be reduced to less-than-significant levels with the implementation of the applicants' proposed mitigation and the additional measures recommended in the final EIS.

The U.S. Army Corps of Engineers (USACE) participated as a cooperating agency in the preparation of the final EIS. The USACE has jurisdiction by law or special expertise with respect to resources potentially affected by the proposals and participate in the NEPA analysis. The USACE may adopt and use the EIS as it has jurisdictional authority pursuant to section 404 of the Clean Water Act, which governs the discharge of dredged or fill material into waters of the United States; section 10 of the Rivers and Harbors Act, which regulates any work or structures that potentially affect the navigable capacity of navigable waters of the United States; and section 14 of the Rivers and Harbors Act which regulates the temporary occupation of water-related structures constructed by the United States. Although the cooperating agency provides input to the conclusions and recommendations presented in the final EIS, the agency will present its own conclusions and recommendations in its Record of Decision for the project.

The final EIS of the SMP Project addresses the potential environmental effects of the construction and operation of the following project facilities:

The Hillabee Expansion Project would include:

• Approximately 43.5 miles of new 42- and 48-inch-diameter natural gas pipeline loop ¹ in Alabama;

¹ A loop is a segment of pipe that is installed adjacent to an existing pipeline and connected to it at both ends. A loop generally allows more gas to move through the system.

• one new compressor station in Choctaw County, Alabama and modifications to three existing compressor stations in Dallas, Chilton, and Coosa Counties, Alabama; and

• installation of pig ² launchers/receivers and mainline valves (MLVs).

² A pig is an internal tool that can be used to clean and dry a pipeline and/or to inspect it for damage or corrosion.

The Sabal Trail Project would include:

• approximately 516.2 miles of new natural gas pipeline in Alabama, Georgia, and Florida, including:

○ 481.6 miles of 36-inch-diameter mainline pipeline in Alabama, Georgia, and Florida;

○ the 21.5-mile-long, 24-inch-diameter Citrus County Line in Florida; and

○ the 13.1-mile-long, 36-inch-diameter Hunters Creek Line in Florida;

• five new compressor stations in Tallapoosa County, Alabama; Dougherty County, Georgia; and Suwannee, Marion, and Osceola Counties, Florida;

• subsequent modifications to two of the new compressor stations in Dougherty County, Georgia and Suwannee County, Florida; and

• installation of pig launchers/receivers, MLVs, and meter and regulating stations.

The FSC Project would include:

• approximately 126.3 miles of new 30- and 36-inch-diameter natural gas pipeline in Florida; and

• installation of pig launchers/receivers, MLVs, and meter and regulating stations.

The FERC staff mailed copies of the final EIS to federal, state, and local government representatives and agencies; elected officials; environmental and public interest groups; Native American tribes; potentially affected landowners and other interested individuals and groups; newspapers and libraries in the project area; and parties to this proceeding. Paper copy versions of the final EIS were mailed to those specifically requesting them; all others received a CD version. In addition, the final EIS is available for public viewing on the FERC's Web site (www.ferc.gov) using the eLibrary link. A limited number of copies are available for distribution and public inspection at: Federal Energy Regulatory Commission, Public Reference Room, 888 First Street NE., Room 2A, Washington, DC 20426, (202) 502-8371.

Additional information about the SMP Project is available from the Commission's Office of External Affairs, at (866) 208-FERC, or on the FERC Web site (www.ferc.gov) using the eLibrary link. Click on the eLibrary link, click on “General Search,” and enter the docket number excluding the last three digits in the Docket Number field (i.e., CP14-554, CP15-16, and CP15-17). Be sure you have selected an appropriate date range. For assistance, please contact FERC Online Support at FERCOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: December 18, 2015.
Nathaniel J. Davis, Sr.,
Deputy Secretary.

[FR Doc. 2015-32402 Filed 12-23-15; 8:45 am]

BILLING CODE 6717-01-P